DEPARTMENT OF THE INTERIOR

Bureau of Land Management

[LLOR-936000-L14300000-ET0000-14XL1109AF; HAG-14-0137; OR-67907]

Notice of Proposed Withdrawal and Opportunity for Public Meeting; Oregon

AGENCY: Bureau of Land Management, Interior.

ACTION: Notice.

SUMMARY: On behalf of the Bureau of Land Management (BLM), the Assistant Secretary for Land and Minerals Management proposes to withdraw, subject to valid existing rights, 3680.29 acres of public lands, including 3,600.29 acres of revested Oregon and California Railroad Grant lands in Josephine County, Oregon, from location and entry under the United States mining laws, but not from leasing under the mineral or geothermal leasing laws, or disposal under the Materials Act of 1947 for a period of 20 years. The proposed withdrawal is needed to protect the geological, fisheries, and wildlife resources within the Crooks Creek Fisheries and Limestone Caves area. This notice temporarily segregates the lands for up to 2 years from location and entry under the United States mining laws and gives the public an opportunity to comment on the proposed withdrawal application and to request a public meeting.

DATES: The BLM must receive comments and requests for a public meeting by May 18, 2015.

ADDRESSES: Comments and meeting requests should be sent to the BLM Oregon/Washington State Office, P.O. Box 2965, Portland, Oregon 97208-2965 or 1220 SW., 3rd Avenue Portland, Oregon 97204-3264.

FOR FURTHER INFORMATION CONTACT: Michael Barnes, BLM Oregon/Washington State Office, 503-808-6155, or Anthony Kerwin, Medford District Office, BLM, 541-618-2402.

Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The BLM filed an application requesting the Assistant Secretary for Land and Minerals Management to withdraw, subject to valid existing rights, the following described public lands located in Josephine County, Oregon, from location and entry under the United States mining laws, but not from leasing under the mineral or geothermal leasing laws, or disposal under the Materials Act of 1947, to protect geological, fisheries, and wildlife resources within the Crooks Creek Fisheries and Limestone Caves area:

Willamette Meridian

Revested Oregon and California Railroad Lands

T. 37 S., R. 6 W.,

sec. 31, lots 1 to 4, inclusive, and E½SW¼.

T. 37 S., R. 7 W.,

sec. 35, S½NE¼, N½SW¼, and N½SE¼;

sec. 36.

T. 38 S., R. 6 W.,

sec. 4, lots 3 to 6, inclusive, lots 11 and 12, and SW¼;

sec. 5;

sec. 6, lots 1 to 4 and 7 to 10, inclusive, and SE¼;

sec. 7, NE¼, N½SE¼, and N½SW¼SE¼;

sec. 8;

sec. 9, NW¼NW¼.

T. 39 S., R. 8 W.,

sec. 11, SE¼SE¼.

Other Public Lands

T. 39 S., R. 8 W.,

sec. 14, NE¼NE¼ and SE¼NW¼.

The areas described aggregate approximately 3,680.29 acres in Josephine County.

The Assistant Secretary for Land and Minerals Management approved the BLM's petition/application. Therefore, the petition/application constitutes a withdrawal proposal of the Secretary of the Interior (43 CFR 2310.1-3(e)).

The use of a right-of-way, interagency agreement, or cooperative agreement would not adequately constrain mineral location and surface entry which could adversely affect ongoing management activities, and existing and planned capital improvements resulting in land use conflicts as well as irretrievable loss of natural resources.

No water is necessary to fulfill the purpose of the requested withdrawal.

Records relating to this withdrawal application may be examined by contacting the BLM at the above address and phone number.

For a period until May 18, 2015, all persons who wish to submit comments, suggestions, or objections in connection with the proposed withdrawal may present their views in writing to the BLM State Director at the address indicated above.

Comments, including names and street addresses of respondents, will be available for public review at the address indicated above during regular business hours. Before including your address, phone number, email address, or other personal identifying information in your comment, be advised that your entire comment—including your personal identifying information—may be made publicly available at any time. While you can ask us in your comment to withhold from public review your personal identifying information, we cannot guarantee that we will be able to do so.

Notice is hereby given that an opportunity for a public meeting is afforded in connection with the proposed withdrawal. All interested parties who desire a public meeting for the purpose of being heard on the proposed withdrawal must submit a written request to the BLM State Director at the address indicated above by May 18, 2015. Upon determination by the authorized officer that a public meeting will be held, a notice of the time and place will be published in the Federal Register and a local newspaper at least 30 days before the scheduled date of the meeting.

For a period until February 17, 2017, the public lands described in this notice will be segregated from location and entry under the United States mining laws, but not from leasing under the mineral or geothermal leasing laws, or disposal under the Materials Act of 1947, unless the application is denied or canceled or the withdrawal is approved prior to that date.

Licenses, permits, cooperative agreements, or discretionary land use authorizations of a temporary nature that will not significantly impact the values to be protected by the withdrawal may be allowed with the approval of the authorized officer of the BLM during the temporary segregation period.

The application will be processed in accordance with the regulations set forth in 43 CFR part 2300.

Christopher DeWitt,
Acting Chief, Branch of Land, Mineral, and Energy Resources.

[FR Doc. 2015-03101 Filed 2-13-15; 8:45 am]

BILLING CODE 4310-33-P